DEPARTMENT OF THE INTERIOR

National Park Service

[NPS-WASO-NAGPRA-22722; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Burke Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum at the address in this notice by March 27, 2017.

ADDRESSES: Peter Lape, Burke Museum, University of Washington, Box 353010, Seattle, WA 98195, telephone (206) 685-3849x2, email plape@uw.edu.

SUPPLEMENTARY INFORMATION: Notice is here given in accordance with the Native American Graves Protection and Repatriation Act (NAGPRA), 25 U.S.C. 3003, of the completion of an inventory of human remains under the control of the Burke Museum, Seattle, WA. The human remains were removed from Point Hope, North Slope Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum professional staff in consultation with representatives of the Native Village of Point Hope.

History and Description of the Remains

In 1929, human remains representing, at minimum, one individual were removed from Point Hope, North Slope Borough, AK. The human remains were removed by William A. Shanafelt and loaned to the Burke Museum in 1930. While the Burke Museum has never formally accessioned these human remains, it has been advised to proceed and comply with NAGPRA regarding this individual. No known individuals were identified. No funerary objects are present.

The human remains have been determined to be Native American based on osteological and geographical evidence. Based on the donor's history and general provenience of removal, the human remains have been determined to be related to the Inupiat people of the Point Hope area. The Inupiat were the aboriginal occupants of the archeological sites documented in the Point Hope area, which date between A.D. 1000-1700 (Damas, 1984). The modern day Inupiat descendants are members of the Native Village of Point Hope (Tikigaq).

Determinations Made by the Burke Museum

Officials of the Burke Museum have determined that:

• Pursuant to 25 U.S.C. 3001(9), the human remains described in this notice represent the physical remains of one individual of Native American ancestry.

• Pursuant to 25 U.S.C. 3001(2), there is a relationship of shared group identity that can be reasonably traced between the Native American human remains and Native Village of Point Hope.

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849, email plape@uw.edu, by March 27, 2017. After that date, if no additional requestors have come forward, transfer of control of the human remains to the Native Village of Point Hope may proceed.

The Burke Museum is responsible for notifying the Native Village of Point Hope that this notice has been published.

Dated: January 10, 2017.
Melanie O'Brien,
Manager, National NAGPRA Program.

[FR Doc. 2017-03632 Filed 2-23-17; 8:45 am]

BILLING CODE 4312-52-P